DEPARTMENT OF TRANSPORTATION

National Highway Traffic Safety Administration

[Docket No. NHTSA-2008-0145, Notice 1]

NHTSA's Activities Under the United Nations Economic Commission for Europe 1998 Global Agreement: Pedestrian Safety

AGENCY: National Highway Traffic Safety Administration (NHTSA), Department of Transportation.

ACTION: Notice of activities under the 1998 Global Agreement and request for comments.

SUMMARY: NHTSA is publishing this notice to inform the public that there is a vote scheduled to establish the Global Technical Regulation on Pedestrian Safety at the November 2008 session of the World Forum for Harmonization of Vehicle Regulations (WP.29). In anticipation of the vote NHTSA is requesting comments to inform its decision for the vote. Publication of this information is in accordance with NHTSA's Statement of Policy regarding Agency Policy Goals and Public Participation in the Implementation of the 1998 Global Agreement on Global Technical Regulations.

DATES: Written comments may be submitted to this agency within 30 days of publication of this notice.

ADDRESSES: You may submit comments [identified by DOT Docket No. NHTSA-2008-0145, Notice 1] by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays. Telephone: 1-800-647-5527.

• Fax: 202-493-2251.

Instructions: All submissions must include the agency name and docket number for this proposed collection of information. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketInfo.dot.gov.

Docket: For access to the docket to read background documents or comments received, go to http://www.regulations.gov or the street address listed above. Follow the online instructions for accessing the dockets.

FOR FURTHER INFORMATION CONTACT: Mr. Ezana Wondimneh, Division Chief, International Policy and Harmonization (NVS-133), National Highway Traffic Safety Administration, 1200 New Jersey Avenue, SE., Washington, DC 20590; Phone (202) 366-0846, Fax (202) 493-2280.

SUPPLEMENTARY INFORMATION: Pedestrian safety is a key focus worldwide. Data indicate that, annually: in the European Union about 8,000 pedestrians and cyclists are killed and about 300,000 injured; in North America approximately 5,000 pedestrians are killed and 85,000 injured; in Japan approximately 3,300 pedestrians and cyclists are killed and 27,000 seriously injured; and in South Korea around 3,600 pedestrians are killed and 90,000 injured.¹

¹ Further discussion of these statistics and data sources is available in the text of the GTR.

The U.S. participated in the International Harmonized Research Activities (IHRA) Pedestrian Safety Working Group (IHRA-PS-WG) as it began to investigate and analyze the latest pedestrian accident data from IHRA member countries in 2001 and continued on to prepare harmonized pedestrian-passenger vehicle test procedures. Following this, separate adult and child head form tests were presented to the World Forum for Harmonization of Vehicle Regulations (WP.29) at the end of 2002. Initial leg form tests were proposed in 2004. Since then, the U.S. has been working with representatives from WP.29 and IHRA to refine these testing procedures for inclusion in the GTR.

NHTSA has also participated in the pedestrian safety technical working group established under the GRSP since 2002. In March 2004, a formal proposal to develop a pedestrian safety GTR was adopted by the Executive Committee for the 1998 Agreement (AC.3) under the sponsorship of the European Commission. The working group is chaired by Japan.

This GTR is expected to improve pedestrian safety by requiring vehicle hoods and bumpers to absorb energy more efficiently when impacted in a 40 kilometer per hour (km/h) vehicle-to-pedestrian impact. These incidents account for more than 75 percent of the pedestrian-injured accidents (AIS 1+) reported by IHRA/PS. Pedestrian fatalities in countries that implement the GTR could be reduced by between 1 and 5 percent depending on the contracting party's transportation environment. The GTR consists of two sets of performance criteria applying to: (a) The hood top and fenders; and (b) the front bumper. Test procedures have been developed using sub-system impacts for adult and child head protection and adult leg protection.

The head impact requirements will ensure that hood tops and fenders provide head protection when struck by a pedestrian. In testing, the hood top and fenders would be impacted with a child headform and an adult headform at 35 km/h. The Head Injury Criterion (HIC) must not exceed 1,000 over one half of a child headform test area and must not exceed 1,000 over two thirds of the combined child and adult headform test areas. The HIC for the remaining areas must not exceed 1,700 for both headforms.

The leg protection requirements for the front bumper would require bumpers to subject pedestrians to lower impact forces than result from most current designs. The testing required by this GTR specifies that the vehicle bumper is struck at 40 km/h with a legform that simulates the impact response of an adult's leg. Vehicles with a lower bumper height of less than 425 millimeters (mm) are tested with a lower legform test device, while vehicles with a lower bumper height of more than 500mm are tested with an upper legform test device. Vehicles with a lower bumper height between 425mm and 500mm are tested with either legform as chosen by the manufacturer. In the lower legform-to-bumper test, vehicles must meet limits on lateral knee bending angle, knee shearing displacement, and lateral tibia acceleration. In the upper legform to bumper test, limits are placed on the instantaneous sum of the impact forces with respect to time and the bending moment on the test. More detailed information on these test procedures was provided in previous notices and through the UN Web site as they were considered by WP.29.

This GTR is expected to be considered for establishment by vote at the upcoming November 2008 session of WP.29/AC.3. Once a GTR is established through consensus voting at WP.29, Contracting Parties, while not obligated to automatically adopt the regulation, are obligated to initiate the process of rulemaking in their respective jurisdictions. If a GTR is established, it is the agency's policy to initiate domestic rulemaking to adopt its requirements, including a cost and benefit analysis specific to the U.S. This process provides further opportunity for the public to comment on our proposed regulation for consideration through the usual U.S. rulemaking process.

In anticipation of the vote to establish a GTR for pedestrian safety, NHTSA is requesting comment from all interested parties. The draft regulation and associated documents can be found in the docket for this notice and on the UNECE Web site.²

² ECE/TRANS/WP.29/2007/105

Issued on: September 17, 2008.
Stephen R. Kratzke,
Associate Administrator for Rulemaking.

[FR Doc. E8-22330 Filed 9-23-08; 8:45 am]

BILLING CODE 4910-59-P